DEPARTMENT OF STATE

[Public Notice 7992]

Notice of Request for Expressions of Interest by Environmental Experts in Assisting the CAFTA-DR Secretariat for Environmental Matters With the Preparation of Factual Records

AGENCY: Department of State.

ACTION: Request for environmental experts to assist the Dominican Republic-Central America-United States Free Trade Agreement (CAFTA-DR) Secretariat for Environmental Matters (Secretariat) with the preparation of factual records.

SUMMARY: The Department of State and the Office of the United States Trade Representative are compiling recommendations for candidates to be included on a roster of environmental experts from which the CAFTA-DR Secretariat can select individuals to assist in the preparation of factual records. The Department of State and the Office of the United States Trade Representative invite environmental experts, including representatives from non-governmental organizations, educational institutions, private sector enterprises, and other interested persons, to submit their expression of interest in being included on a roster of experts. We encourage submitters to review the following prior to offering a recommendation: (1) Chapter 17: Environment of the CAFTA-DR, in particular Articles 17.7 and 17.8; (2) paragraph 2(d) of the Understanding Regarding the Establishment of a Secretariat for Environmental Matters Under CAFTA-DR; (3) paragraphs 3 and 4 of Article 5 of the Agreement Establishing a Secretariat for Environmental Matters Under CAFTA-DR; and (4) Decision No. 10 of the CAFTA-DR Environmental Affairs Council (Council). These documents are available at: http://www.state.gov/e/oes/env/trade/caftadr/index.htm.

DATES: To be assured of timely consideration, all written suggestions are requested no later than September 3, 2012.

ADDRESSES: Written suggestions should be emailed or faxed to Kelly Milton, Office of Environment and Natural Resources, Office of the United States Trade Representative (KMilton@ustr.eop.gov, Fax: 202-395-9517), and Abby Lindsay, Office of Environmental Policy, Bureau of Oceans and International Environmental and Scientific Affairs, U.S. Department of State (LindsayA@state.gov, Fax: 202-647-5947), with the subject line “CAFTA-DR Roster of Environmental Experts to Assist in Development of Factual Records.” If you have access to the Internet, you can view and comment on this notice by going to: http://www.regulations.gov/#!home and searching on docket number: DOS-2012-0047.

FOR FURTHER INFORMATION, CONTACT: Abby Lindsay, telephone (202) 647-8772 or Kelly Milton, telephone (202) 395-9590.

SUPPLEMENTARY INFORMATION: Pursuant to Article 17.7 and 17.8 of the Dominican Republic-Central America-United States Free Trade Agreement (CAFTA-DR), any person of a Party may file a submission with the CAFTA-DR Secretariat asserting that a Party is failing to effectively enforce its environmental laws. Where the Secretariat determines that a submission meets the criteria set out in paragraph 2 and 4 of Article 17.7, and where the Secretariat considers that the submission, in light of any response provided by the Party, warrants developing a factual record, the Secretariat shall so inform the Council and provide its reasons. The Secretariat shall prepare a factual record if the Council, by vote of any Party, instructs it to do so. For more information on factual records, see the Web site of the CAFTA-DR Secretariat, available at: www.saa-sem.org.

Pursuant to paragraph 2(d) of the Understanding Regarding the Establishment of a Secretariat for Environmental Matters Under CAFTA-DR (the Understanding), the Council shall establish a roster of environmental experts, comprising persons with a demonstrated record of good judgment, objectivity, and environmental expertise, including regional expertise, from which the Secretariat shall select, as appropriate, individuals to assist the Secretariat with the preparation of factual records pursuant to Article 17.8 of the CAFTA-DR.

Consistent with the obligation of paragraph 2(d) of the Understanding and paragraphs 3 and 4 of Article 5 of the Agreement Establishing a Secretariat for Environmental Matters Under CAFTA-DR, on July 3, 2012, the Council set forth procedures for the Secretariat to follow regarding the engagement of such experts. See Decision No. 10 “Engagement of Environmental Experts to Assist the Secretariat for Environmental Matters with the Preparation of Factual Records.” Pursuant to Decision 10, the General Coordinator of the Secretariat shall compile the recommendations received from the Parties and present the Council with the proposed roster of environmental experts. The Council shall decide, by consensus, to establish the roster as proposed.

According to Decision No. 10, individuals selected for inclusion on the roster shall:

• Have demonstrated a record of good judgment, objectivity and environmental expertise;

• Carry out all duties fairly, thoroughly and diligently;

• Demonstrate national or regional expertise where possible;

• Avoid impropriety or the appearance of impropriety and shall observe high standards of conduct so that the integrity or impartiality of any work performed by the expert at the request of the SEM shall not be called into question;

• Not seek or receive instructions from any government or any other authority external to the SEM or Council. Accordingly, experts shall not have ex parte contacts with any of the Parties without the prior explicit consent of the Secretariat or Council;

• Safeguard from public disclosure any information received in their capacity as an environmental expert, where the information is designated by its source as confidential or proprietary;

• Ensure that his or her work complies with all applicable laws and regulations; and

• Promptly disclose any interest, relationship or matter that is likely to affect the expert's independence or impartiality or that might reasonably create an appearance of impropriety or an apprehension of bias in his work.

The Department of State and the Office of the US Trade Representative are requesting expressions of interest in being included on the roster from environmental experts. To do so, please submit the following information:

1. Full Name.

2. Contact information (should include a business address, telephone number, and email address).

3. Citizenship(s).

4. A resume or curriculum vitae.

5. A letter of reference.

6. Three individuals, in addition to the author of the letter of reference, who are willing to serve as a reference and provide information regarding the expert's professional experience (should include the names, contact information, and relationship to expert).

7. A summary of any current and past employment by, consulting experience, or other work for any of the Governments that are a Party to the CAFTA-DR.

8. Proof of Spanish and English language proficiency, written and spoken.

For additional information, please visit: http://www.state.gov/e/oes/env/trade/caftadr/index.htm.

Disclaimer: This Public Notice is a request for expressions of interest, and is not a request for applications. No granting of money is directly associated with this request for environmental experts. The Department of State and the Office of the United States Trade Representative will select which environmental experts are included on the U.S. recommendation of candidates.

Dated: August 20, 2012.
John Thompson,
Acting Director, Office of Environmental Policy, Department of State.

[FR Doc. 2012-20896 Filed 8-23-12; 8:45 am]

BILLING CODE 4710-09-P